DEPARTMENT OF LABOR

Veterans Employment and Training Service

Agency Information Collection Activities: New Collection; Comment Request; 60-Day Notice of Information Collection Under Review: Homeless Veterans Reintegration Program Data Collection and Effectiveness Study.

ACTION: Notice; correction.

SUMMARY: The Department of Labor, Veterans Employment and Training Service published a document in the Federal Register. Agency Information Collection Activities: New Collection; Comment Request Action: 60-Day Notice of Information Collection Under Review: Homeless Veterans Reintegration Program Data Collection and Effectiveness Study. The Department is issuing a restructured a paragraph for clarification purposes.

Correction

This is to correct the “text” caption in the Federal Register of on August 15, 2008, Volume 73, Number 159, and OFR Doc # 2008-18858, on page 47981, in section marked Date, to read: DATES: The Department will accept comments from the public up to 60 from publication of notice.

Signed in Washington, DC, this 19th day of September 2008.
Charles S. Ciccolella,
Assistant Secretary, Veterans Employment and Training Service.

[FR Doc. E8-22512 Filed 9-25-08; 8:45 am]

BILLING CODE 4510-79-P